Proclamation 10002 of March 31, 2020

National Child Abuse Prevention Month, 2020

By the President of the United States of America

A Proclamation

Childhood should be filled with joy, hope, unconditional love, and acceptance. Tragically, however, far too many of our Nation's young people spend this foundational time of their lives in fear, pain, and uncertainty, enduring abuse and neglect that threatens their health and well-being. During National Child Abuse Prevention Month, we condemn this horrific depravity and reaffirm our unwavering commitment to protecting our children and strengthening our families.

Each year, hundreds of thousands of children across our country suffer from abuse and neglect, a fact that is both sobering and heart-wrenching. In January, I signed an Executive Order to coordinate the Federal Government's efforts to prosecute individuals who sexually exploit children online, protect and support victims of child exploitation, and provide prevention education to raise awareness and help lower the incidence of child exploitation. I also signed into law legislation to enhance our child welfare systems by supporting at-risk families through mental health and substance abuse treatment and programs to develop parenting skills.

With our international partners in Australia, Canada, New Zealand, and the United Kingdom, the United States developed the Voluntary Principles to Counter Online Child Sexual Exploitation and Abuse. The Voluntary Principles establish a baseline framework for companies that provide online services to deter use of the internet as a tool for sexually exploiting and abusing children. Several major technology companies have publicly adopted the principles and more will follow in the coming months. These companies have a responsibility to prevent their platforms from becoming a haven for child predators and to also ensure law enforcement is able to investigate and prosecute offenders when children have been victimized.

Child abuse causes the loss of innocence and hope. Loving, devoted, and caring families can serve as a bulwark against our children suffering from neglect and abuse. Child Welfare Information Gateway, the information service of the Department of Health and Human Services' Children's Bureau, offers several resources on preventing child abuse and promoting healthy families through its National Child Abuse Prevention Month website. Familiarizing yourself with the information provided by the Department of Health and Human Services can help you learn more about what you and your community can do to support children and families during this month and throughout the year.

To eradicate this blight on our society, compassionate and concerned Americans must work to effect change and impact young lives. Child welfare agencies, clergy members, educators, medical and law enforcement professionals, neighbors, friends, and extended family members all contribute to protecting and nurturing our Nation's youth. Foster, kinship, and adoptive parents open their hearts and their homes to children in crisis and empower them to find happiness and achieve their dreams. Working together, these forces for good can ensure the welfare of children who have experienced the traumas of abuse or neglect and give them a promising future.

The success of our Nation is reflected in our economic and cultural prosperity and military might, but our character is revealed by how we cherish and protect the weak, innocent, and vulnerable. All children are uniquely created in the image of God and gifted with both purpose and unlimited potential. We can and must relentlessly protect our children, homes, and communities from the scourge of these shameful tragedies and support families and communities to ensure that all children have the opportunity to reach their potential.

NOW, THEREFORE, I, DONALD J. TRUMP, President of the United States of America, by virtue of the authority vested in me by the Constitution and the laws of the United States, do hereby proclaim April 2020 as National Child Abuse Prevention Month. I call upon all Americans to invest in the lives of our Nation's children, to be aware of their safety and well-being, and to support efforts that promote their psychological, physical, and emotional development.

IN WITNESS WHEREOF, I have hereunto set my hand this thirty-first day of March, in the year of our Lord two thousand twenty, and of the Independence of the United States of America the two hundred and forty-fourth.

[FR Doc. 2020-07303

Filed 4-3-20; 8:45 am]

Billing code 3295-F0-P